DEPARTMENT OF JUSTICE

Notice of Lodging of Consent Decree, Under the Comprehensive Environmental Response, Compensation and Liability Act (“CERCLA”)

Under 28 CFR 50.7, notice is hereby given that on July 31, 2003, a proposed consent decree in United States v. Acorn Engineering Company, et al., Civil Action No. 03-5470-WJR (FMOx), was lodged with the United States District Court for the Central District of California.

The United States' claims in this action arise under Sections 106 and 107 of the Comprehensive Environmental Response, Compensation and Liability Act (“CERCLA”), 42 U.S.C. 9606 and 9607, and section 7003 of the Resource Conservation and Recovery Act, as amended (“RCRA”), 42 U.S.C. 6973, for releases and threatened releases of hazardous substances at the Puente Valley Operable Unit of the San Gabriel Valley Superfund Site, Area 4, Los Angeles County, California, that may present an imminent and substantial endangerment to public health or welfare or the environment.

The consent decree resolves settling defendants' liability for past costs, future costs, and work associated with the remedial action required for the Site set forth in the Environmental Protection Agency's 1998 Interim Record of Decision.

The Department of Justice will receive for a period of third (30) days from the date of this publication comments relating to the consent decree. Comments should be addressed to the Assistant Attorney General, Environment and Natural Resources Division, P.O. Box 7611, U.S. Department of Justice, Washington, DC 20044-7611, and should refer to United States v. Acorn Engineering Company, et al., D.J. Ref. 90-11-2-354/1. Commenters may request an opportunity for a public meeting in the affected area, in accordance with Section 7003(d) of RCRA, 42 U.S.C. 6973(d).

The consent decree may be examined at the Office of the United States Attorney, 300 North Los Angeles Street, Los Angeles, California, and at U.S. Environmental Protection Agency Region IX, 75 Hawthorne Street, San Francisco, California. During the public comment period the consent decree also may be examined on the following Department of Justice website, http://www.usdoj.gov/enrd/open.html. A copy of the consent decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $14.25 (57 pages @ 25 cents per page reproduction cost), payable to the U.S. Treasury.

Ellen M. Mahan,
Assistant Chief, Environmental Enforcement Section, Environment and Natural Resources Division.

[FR Doc. 03-20669 Filed 8-12-03; 8:45 am]

BILLING CODE 4410-15-M